Title 3—

The President

Proclamation 10809 of September 13, 2024

National Hispanic Heritage Month, 2024

By the President of the United States of America

A Proclamation

During National Hispanic Heritage Month, we honor and celebrate the culture, history, and contributions of the Latino community.

In our country, Latino leaders are striving for the American Dream and helping those around them reach it too. From those who have been here for generations to those who have recently arrived, Latinos have pushed our great American experiment forward. They are the community, faith, and union leaders who advocate and stand up for all of us. They are the first responders, who put themselves in harm's way to keep the rest of us safe. And they represent the best of who we are as a Nation—the teachers and doctors, athletes and artists, business leaders, public servants, and so much more. They embody the possibilities of our Nation and the dreams of those who work every day to build a better future for their children, grandchildren, and beyond. I am proud to work with incredible Latino leaders, who are dedicated to bettering our Nation every day—like Secretary of Health and Human Services Xavier Becerra, Secretary of Homeland Security Alejandro Mayorkas, Secretary of Education Miguel Cardona, Administrator of the Small Business Administration Isabel Guzman, Director of the White House Office of Intergovernmental Affairs Tom Perez, and White House Director of Political Strategy and Outreach Emmy Ruiz.

My Administration is committed to putting the American Dream within reach of every person, and it is working. We have created nearly 16 million jobs since we took office and have seen record-low unemployment among Latinos, and Latino entrepreneurs have started new businesses at the fastest rate in over 25 years. We have more than doubled Small Business Administration loans to Latino-owned businesses. We have invested a record more than $15 billion in Hispanic-serving colleges and universities, and we approved the cancellation of student debt—a burden that disproportionately falls on Latino borrowers—for almost five million people through various actions. We also cracked down on bias in the home appraisal process so homes owned by Latinos and those in majority Latino neighborhoods can be valued fairly. And we are making health care a right, not a privilege—doubling Latino enrollment in coverage under the Affordable Care Act and giving Medicare the power to negotiate lower prescription drug prices, while capping insulin at $35 per month for people on Medicare, including for the five million Latinos on Medicare. And across the Federal Government, we are implementing my Administration's National HIV/AIDS Strategy, prioritizing the expansion of HIV services to reach all Americans—especially Latino gay men, who now represent the highest incidence of new HIV cases in the country.

At the same time, I am working to build an immigration system that is fair, orderly, and humane. On my first day in office, I sent a comprehensive immigration reform bill to the Congress. It includes more resources for a strong border and expands permanent visas for families and employers. It also includes a pathway to citizenship for Dreamers, whose contributions have made this country better and stronger. While the Congress has failed to take up this legislation, my Administration is taking action to protect and support Dreamers and others. We issued a rule that will, for the first time, finally provide Deferred Action for Childhood Arrivals (DACA) recipients with access to health insurance through the Affordable Care Act. Additionally, we proposed a rule that would give Dreamers, among others from underserved backgrounds, the support and resources they need to successfully transition from high school to college—providing access to everything from college campus visits to tutoring and help with financial aid applications. And I am proud that my Administration has reunited nearly 800 families that were shamefully separated at the border under the prior administration. My Administration also implemented a process to help the noncitizen spouses of United States citizens who have been here for 10 years or more, along with their children, to apply for lawful permanent residence without leaving the country. And we have taken steps to help young people who have been educated in the United States, including DACA recipients and other Dreamers, receive work visas more quickly.

In the Oval Office, I keep a bust of Cesar Chavez, one of my heroes, who once said: “Our ambitions must be broad enough to include the aspirations and needs of others, for their sakes and for our own.” Together, I know that we will continue to build a future that generations of Latinos can be proud of—one founded on honesty, respect, and faith and where everyone has an opportunity to pursue their talents and ambitions.

In recognition of the achievements of the Hispanic and Latino community, the Congress, by Public Law 100-402, as amended, has authorized and requested the President to issue annually a proclamation designating September 15 through October 15 as “National Hispanic Heritage Month.”

NOW, THEREFORE, I, JOSEPH R. BIDEN JR., President of the United States of America, by virtue of the authority vested in me by the Constitution and the laws of the United States, do hereby proclaim September 15 through October 15, 2024, as National Hispanic Heritage Month. I call upon all Americans to observe this month with appropriate ceremonies, activities, and programs that celebrate Hispanic heritage and recognize the impact Hispanic peoples have had on our Nation.

IN WITNESS WHEREOF, I have hereunto set my hand this thirteenth day of September, in the year of our Lord two thousand twenty-four, and of the Independence of the United States of America the two hundred and forty-ninth.

[FR Doc. 2024-21442

Filed 9-17-24; 8:45 am]

Billing code 3395-F4-P